DEPARTMENT OF ENERGY

Federal Energy Regulatory Commission

Combined Notice of Filings #1

Take notice that the Commission received the following electric rate filings:

Docket Numbers: ER10-2331-024; ER10-2326-023; ER10-2330-023.

Applicants: J.P. Morgan Ventures Energy Corporation, Cedar Brakes I, L.L.C., Utility Contract Funding, L.L.C.

Description: JPMorgan Sellers Notice of Non-Material Change in Status re: Buffalo Dunes Wind Project, LLC.

Filed Date: 1/30/14.

Accession Number: 20140130-5160.

Comments Due: 5 p.m. ET 2/20/14.

Docket Numbers: ER10-2437-001.

Applicants: Arizona Public Service Company.

Description: Notice of Change in Status of Arizona Public Service Company.

Filed Date: 1/29/14.

Accession Number: 20140129-5250.

Comments Due: 5 p.m. ET 2/19/14.

Docket Numbers: ER10-2984-016.

Applicants: Merrill Lynch Commodities, Inc.

Description: Notice of Non-Material Change in Status of Merrill Lynch Commodities, Inc.

Filed Date: 1/29/14.

Accession Number: 20140129-5253.

Comments Due: 5 p.m. ET 2/19/14.

Docket Numbers: ER13-1487-001.

Applicants: Quantum Auburndale Power, LP.

Description: Notice of Non-Material Change in Status by Quantum Auburndale Power, LP.

Filed Date: 1/30/14.

Accession Number: 20140130-5147.

Comments Due: 5 p.m. ET 2/20/14.

Docket Numbers: ER13-2409-002.

Applicants: Buffalo Dunes Wind Project, LLC.

Description: Notice of Non-Material Change in Status of Buffalo Dunes Wind Project, LLC.

Filed Date: 1/30/14.

Accession Number: 20140130-5140.

Comments Due: 5 p.m. ET 2/20/14.

Docket Numbers: ER14-671-001.

Applicants: Entergy Arkansas, Inc.

Description: EES PTCA Agmt Refile—Ameren 1-29-2014 to be effective 12/31/9998.

Filed Date: 1/29/14.

Accession Number: 20140129-5226.

Comments Due: 5 p.m. ET 2/28/14.

Docket Numbers: ER14-672-001.

Applicants: Entergy Arkansas, Inc.

Description: EAI LBA Agmt Refile—SMEPA 1-29-2014 to be effective 12/31/9998.

Filed Date: 1/29/14.

Accession Number: 20140129-5222.

Comments Due: 5 p.m. ET 2/28/14.

Docket Numbers: ER14-673-001.

Applicants: Entergy Arkansas, Inc.

Description: EES LBA Agmt Refile—LaGen 1-29-2014 to be effective 12/31/9998.

Filed Date: 1/30/14.

Accession Number: 20140130-5003.

Comments Due: 5 p.m. ET 2/28/14.

Docket Numbers: ER14-674-001.

Applicants: Entergy Arkansas, Inc.

Description: EES LBA Agmt Refile—Cleco 1-29-2014 to be effective 12/31/9998.

Filed Date: 1/29/14.

Accession Number: 20140129-5211.

Comments Due: 5 p.m. ET 2/28/14.

Docket Numbers: ER14-675-001.

Applicants: Entergy Arkansas, Inc.

Description: EES LBA Agmt Refile—LEPA 1-29-2014 to be effective 12/31/9998.

Filed Date: 1/29/14.

Accession Number: 20140129-5218.

Comments Due: 5 p.m. ET 2/28/14.

Docket Numbers: ER14-676-001.

Applicants: Entergy Arkansas, Inc.

Description: EES LBA Agmt Refile—SMEPA 1-29-2014 to be effective 12/31/9998.

Filed Date: 1/30/14.

Accession Number: 20140130-5002.

Comments Due: 5 p.m. ET 2/28/14.

Docket Numbers: ER14-693-001.

Applicants: Entergy Services, Inc.

Description: EES LBA Agreement Refile—EM BM 1-29-2014 to be effective 12/31/9998.

Filed Date: 1/29/14.

Accession Number: 20140129-5235.

Comments Due: 5 p.m. ET 2/28/14.

Docket Numbers: ER14-694-001.

Applicants: Entergy Services, Inc.

Description: EES LBA Agreement Refile—EM BR 1-29-2014 to be effective 12/31/9998.

Filed Date: 1/29/14.

Accession Number: 20140129-5236.

Comments Due: 5 p.m. ET 2/28/14.

Docket Numbers: ER14-695-001.

Applicants: Entergy Services, Inc.

Description: EES LBA Agreement Refile—Axiall 1-29-2014 to be effective 12/31/9998.

Filed Date: 1/29/14.

Accession Number: 20140129-5227.

Comments Due: 5 p.m. ET 2/28/14.

Docket Numbers: ER14-696-001.

Applicants: Entergy Services, Inc.

Description: EES LBA Agreement Refile—Dow Plaq 1-29-2014 to be effective 12/31/9998.

Filed Date: 1/29/14.

Accession Number: 20140129-5228.

Comments Due: 5 p.m. ET 2/28/14.

Docket Numbers: ER14-697-001.

Applicants: Entergy Services, Inc.

Description: EES LBA Agreement Refile—Dow UC 1-29-2014 to be effective 12/31/9998.

Filed Date: 1/29/14.

Accession Number: 20140129-5229.

Comments Due: 5 p.m. ET 2/28/14.

Docket Numbers: ER14-699-001.

Applicants: Entergy Services, Inc.

Description: EES LBA Agreement Refile—ETEC 1-29-2014 to be effective 12/31/9998.

Filed Date: 1/29/14.

Accession Number: 20140129-5230.

Comments Due: 5 p.m. ET 2/28/14.

Docket Numbers: ER14-700-001.

Applicants: Entergy Services, Inc.

Description: EES LBA Agreement Refile—Oxy 1-29-2014 to be effective 12/31/9998.

Filed Date: 1/29/14.

Accession Number: 20140129-5231.

Comments Due: 5 p.m. ET 2/28/14.

Docket Numbers: ER14-701-001.

Applicants: Entergy Services, Inc.

Description: EES LBA Agreement Refile—SRW 1-29-2014 to be effective 12/31/9998.

Filed Date: 1/29/14.

Accession Number: 20140129-5232.

Comments Due: 5 p.m. ET 2/28/14.

Docket Numbers: ER14-702-001.

Applicants: Entergy Arkansas, Inc.

Description: EAI LBA Agmt Refile—Calpine 1-29-2014 to be effective 12/31/9998.

Filed Date: 1/29/14.

Accession Number: 20140129-5210.

Comments Due: 5 p.m. ET 2/28/14.

Docket Numbers: ER14-704-001.

Applicants: Entergy Services, Inc.

Description: EES LBA Agreement Refile—Sabine 1-29-2014 to be effective 12/31/9998.

Filed Date: 1/29/14.

Accession Number: 20140129-5233.

Comments Due: 5 p.m. ET 2/28/14.

Docket Numbers: ER14-1106-002.

Applicants: Duke Energy Carolinas, LLC.

Description: OATT 3rd Revised Attachment F-2 NITSA to be effective 1/1/2014.

Filed Date: 1/29/14.

Accession Number: 20140129-5160.

Comments Due: 5 p.m. ET 2/19/14.

Docket Numbers: ER14-1188-000.

Applicants: Pacific Gas and Electric Company.

Description: CCSF IA—44th Quarterly Filing of Facilities Agreements to be effective 12/31/2013.

Filed Date: 1/29/14.

Accession Number: 20140129-5127.

Comments Due: 5 p.m. ET 2/19/14.

Docket Numbers: ER14-1189-000.

Applicants: The Connecticut Light and Power Company.

Description: Cricket Valley Engineering, Procurement, Const. Operations Maintenance Agreement to be effective 1/28/2014.

Filed Date: 1/29/14.

Accession Number: 20140129-5143.

Comments Due: 5 p.m. ET 2/19/14.

Docket Numbers: ER14-1190-000.

Applicants: Southwest Power Pool, Inc.

Description: KPP Formula Rate Removal and Revision to Attachment H/T to Reflect Stated Rate to be effective 12/20/2011.

Filed Date: 1/29/14.

Accession Number: 20140129-5146.

Comments Due: 5 p.m. ET 2/19/14.

Docket Numbers: ER14-1191-000.

Applicants: NSTAR Electric Company.

Description: Agreement for LCC Services—Norwood to be effective 4/1/2014.

Filed Date: 1/29/14.

Accession Number: 20140129-5164.

Comments Due: 5 p.m. ET 2/19/14.

Docket Numbers: ER14-1192-000.

Applicants: Midcontinent Independent System Operator.

Description: 2014-01-29_COSS Allocation Filing to be effective 4/1/2014.

Filed Date: 1/29/14.

Accession Number: 20140129-5171.

Comments Due: 5 p.m. ET 2/19/14.

Docket Numbers: ER14-1193-000.

Applicants: West Deptford Energy, LLC.

Description: Proposed Rate Schedule FERC No. 1 to be effective 3/1/2014.

Filed Date: 1/29/14.

Accession Number: 20140129-5180.

Comments Due: 5 p.m. ET 2/19/14.

Docket Numbers: ER14-1194-000.

Applicants: Southwestern Public Service Company.

Description: 1-29-14_RS114 FCA-IMP to be effective 3/1/2014.

Filed Date: 1/29/14.

Accession Number: 20140129-5181.

Comments Due: 5 p.m. ET 2/19/14.

Docket Numbers: ER14-1195-000.

Applicants: Provider Power CT, LLC.

Description: Application for Market-Based Rate Authority to be effective 3/1/2014.

Filed Date: 1/29/14.

Accession Number: 20140129-5184.

Comments Due: 5 p.m. ET 2/19/14.

Docket Numbers: ER14-1196-000.

Applicants: Southwestern Public Service Company.

Description: 1-29-14_RS115 FCA-IMP to be effective 3/1/2014.

Filed Date: 1/29/14.

Accession Number: 20140129-5188.

Comments Due: 5 p.m. ET 2/19/14.

Docket Numbers: ER14-1197-000.

Applicants: Southwestern Public Service Company.

Description: 1-29-14_RS116 FCA-IMP to be effective 3/1/2014.

Filed Date: 1/29/14.

Accession Number: 20140129-5189.

Comments Due: 5 p.m. ET 2/19/14.

Docket Numbers: ER14-1198-000.

Applicants: Southwestern Public Service Company.

Description: 1-29-14_RS117 FCA-IMP to be effective 3/1/2014.

Filed Date: 1/29/14.

Accession Number: 20140129-5194.

Comments Due: 5 p.m. ET 2/19/14.

Docket Numbers: ER14-1199-000.

Applicants: Southwestern Public Service Company.

Description: 1-29-14_RS135 FCA-IMP to be effective 3/1/2014.

Filed Date: 1/29/14.

Accession Number: 20140129-5196.

Comments Due: 5 p.m. ET 2/19/14.

Docket Numbers: ER14-1200-000.

Applicants: Southwestern Public Service Company.

Description: 1-29-14_RS136 FCA-IMP to be effective 3/1/2014.

Filed Date: 1/29/14.

Accession Number: 20140129-5198.

Comments Due: 5 p.m. ET 2/19/14.

Docket Numbers: ER14-1201-000.

Applicants: Southwestern Public Service Company.

Description: 1-29-14_RS137 FCA-IMP to be effective 3/1/2014.

Filed Date: 1/29/14.

Accession Number: 20140129-5203.

Comments Due: 5 p.m. ET 2/19/14.

Docket Numbers: ER14-1202-000.

Applicants: Entergy Arkansas, Inc.

Description: EES LBA Agmt Refile—LaGen 1-29-2014 to be effective 12/31/9998.

Filed Date: 1/29/14.

Accession Number: 20140129-5214.

Comments Due: 5 p.m. ET 2/19/14.

Docket Numbers: ER14-1203-000.

Applicants: Commonwealth Edison Company, Commonwealth Edison Company of Indiana, PJM Interconnection, L.L.C.

Description: ComEd submits revisions to PJM OATT Attach H-13A re stated depreciation rates to be effective 3/31/2014.

Filed Date: 1/29/14.

Accession Number: 20140129-5234.

Comments Due: 5 p.m. ET 2/19/14.

Docket Numbers: ER14-1204-000.

Applicants: Southwest Power Pool, Inc.

Description: Market Participation by a Federal Power Marketing Agency to be effective 3/30/2014.

Filed Date: 1/29/14.

Accession Number: 20140129-5237.

Comments Due: 5 p.m. ET 2/19/14.

Docket Numbers: ER14-1205-000.

Applicants: Commonwealth Edison Company, Commonwealth Edison Company of Indiana, PJM Interconnection, L.L.C.

Description: ComEd submits a Letter Agmt re Depreciation Rates—Original Service Agmt No. 3747 to be effective 3/31/2014.

Filed Date: 1/30/14.

Accession Number: 20140130-5000.

Comments Due: 5 p.m. ET 2/20/14.

Docket Numbers: ER14-1206-000.

Applicants: California Independent System Operator Corporation.

Description: 2014-01-30_CompetitiveTransmission Improvmts to be effective 4/1/2014.

Filed Date: 1/30/14.

Accession Number: 20140130-5091.

Comments Due: 5 p.m. ET 2/20/14.

Docket Numbers: ER14-1207-000.

Applicants: Keys Energy Center, LLC.

Description: Petition of Keys Energy Center, LLC for Limited Waiver of the PJM Interconnection, L.L.C. Open Access Transmission Tariff Competitive Entry Exemption Deadline and Request for Action by March 3, 2014.

Filed Date: 1/29/14.

Accession Number: 20140129-5262.

Comments Due: 5 p.m. ET 2/19/14.

Docket Numbers: ER14-1208-000.

Applicants: Imperial Valley Solar 1, LLC.

Description: Order No. 784 Compliance Filing to be effective 1/31/2014.

Filed Date: 1/30/14.

Accession Number: 20140130-5100.

Comments Due: 5 p.m. ET 2/20/14.

Take notice that the Commission received the following electric securities filings:

Docket Numbers: ES14-25-000.

Applicants: Trans-Allegheny Interstate Line Company.

Description: Application of Trans-Allegheny Interstate Line Company for Authorization Under Section 204(a) of the Federal Power Act to Issue or Borrow up to $850 Million in Long-Term Debt.

Filed Date: 1/30/14.

Accession Number: 20140130-5149.

Comments Due: 5 p.m. ET 2/20/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 30, 2014.
Nathaniel J. Davis, Sr.,
Deputy Secretary.

[FR Doc. 2014-02655 Filed 2-6-14; 8:45 am]

BILLING CODE 6717-01-P